DEPARTMENT OF JUSTICE

Notice of Lodging of Consent Decree Under the Clean Water Act

Notice is hereby given that on November 15, 2004, a proposed Consent Decree in United States v. Orange County Sanitation District, Civil Action No. SACV04-1317 AHS (MLGx), was lodged with the United States District Court for the Central District of California. The United States and the People of the State of California ex rel. California Regional Water Quality Control Board (“Regional Board”) are signatories to the Consent Decree.

The United States and the Regional Board have filed a complaint against the Orange County Sanitation District (“OCSD”) requesting injunctive relief and penalties for violations of the secondary treatment standards of the Clean Water Act (“Act”), 33 U.S.C. 1311, and requirements of OCSD's National Pollutant Discharge Elimination System (“NPDES”) permit.

The Consent Decree requires OCSD to construct secondary treatment facilities to allow OCSD to achieve compliance with the terms and conditions of its NPDES permit and the Act. OCSD must also comply with interim effluent limitations while undergoing secondary treatment upgrades, report its progress to EPA and the Regional Board and be subject to stipulated penalties for non-compliance with the Consent Decree.

Pursuant to 28 CFR 50.7, the United States Department of Justice will receive for a period of thirty (30) days from the date of this publication comments relating to the Consent Decree. Comments should be addressed to the Assistant Attorney General, Environment and Natural Resources Division, P.O. Box 7611, Ben Franklin Station, U.S. Department of Justice, Washington, DC 20044-7611, and should refer to United States v. Orange County Sanitation District, D.J. Ref. No. 90-5-1-1-07914.

The Consent Decree may be examined during the public comment period on the following Department of Justice Web site: http://www.usdoj.gov/enrd/open.html. A copy of the Consent Decree may also be obtained by mail from the Settlement Agreement Library, U.S. Department of Justice, P.O. Box 7611, Ben Franklin Station, Washington, DC 20044-7611 or by faxing or e-mailing a request to Tonia Fleetwood (tonia.fleetwood@usdoj.gov), fax number (202) 514-0097, phone confirmation number (202) 514-1547. In requesting a copy from the Settlement Agreement Library, please enclose a check in the amount of $8.25 (25 cents per page reproduction cost) payable to the U.S. Treasury.

Ellen M. Mahan,
Assistant Section Chief, Environmental Enforcement Section, Environment and Natural Resources Division.

[FR Doc. 04-26116 Filed 11-24-04; 8:45 am]

BILLING CODE 4410-15-M